DEPARTMENT OF COMMERCE

National Oceanic and Atmospheric Administration

50 CFR Part 660

[Docket No. 250813-0140]

RIN 0648-BN75

Fisheries Off West Coast States; Coastal Pelagic Species Fisheries; Biennial Specifications; 2025-2026 and 2026-2027 Specifications for Pacific Mackerel

AGENCY: National Marine Fisheries Service (NMFS), National Oceanic and Atmospheric Administration (NOAA), Commerce.

ACTION: Proposed rule.

SUMMARY: NMFS proposes to implement annual harvest specifications and management measures for Pacific mackerel in the U.S. exclusive economic zone (EEZ) off the West Coast for the fishing year July 1, 2025, through June 30, 2026, and the fishing year July 1, 2026, through June 30, 2027. These specifications include overfishing limits (OFL), allowable biological catch (ABC), annual catch limits (ACL), harvest guidelines (HG), and annual catch targets (ACT) for each respective fishing year. If the fishery attains the ACT for either fishing year, 8,143 metric tons (mt) for 2025-2026 or 9,448 mt for 2026-2027, the directed fishery will close, reserving the 1,000-mt difference between the HG and ACT as a set-aside for incidental landings in other coastal pelagic species (CPS) fisheries and other sources of mortality. The HG is 9,143 mt for 2025-2026 and 10,448 mt for 2026-2027. This rulemaking is made pursuant to the CPS Fishery Management Plan (FMP), and is intended to conserve and manage the Pacific mackerel stock off the U.S. West Coast.

DATES: Comments must be received by September 24, 2025.

ADDRESSES: A plain language summary of this proposed rule is available at: https://www.regulations.gov/docket/NOAA-NMFS-2025-XXXX. You may submit comments on this document, identified by NOAA-NMFS-2025-0034, by any of the following methods:

Electronic Submissions: Submit all electronic public comments via the Federal e-Rulemaking Portal. Go to https://www.regulations.gov and enter NOAA-NMFS-2025-0034 in the Search box. Click on the “Comment” icon, complete the required fields, and enter or attach your comments.

Instructions: Comments sent by any other method or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Melissa Mandrup, West Coast Region, NMFS, (562) 980-3231, Melissa.Mandrup@noaa.gov.

SUPPLEMENTARY INFORMATION: Under the Magnuson-Stevens Fishery Conservation and Management Act (Magnuson-Stevens Act), 16 U.S.C. 1801 et seq., NMFS manages the Pacific mackerel fishery in the U.S. EEZ off the West Coast in accordance with the CPS FMP. The CPS FMP and its implementing regulations (50 CFR 660.508) require NMFS to set annual harvest specifications for the Pacific mackerel fishery based on the annual specification framework and control rules in the FMP. The Pacific mackerel fishing season runs from July 1 to June 30. The purpose of this action is to implement harvest specifications for the 2025-2026 and 2026-2027 fishing seasons: OFL, ABC, ACL, HG, and ACT. Any Pacific mackerel harvested between July 1, 2025, and the effective date of the final rule will count toward the aforementioned reference points for 2025-2026.

During public meetings held every other year, the NMFS Southwest Fisheries Science Center (SWFSC) presents biomass estimates for Pacific mackerel to the Pacific Fishery Management Council's (Council) CPS Management Team (CPSMT), the Council's CPS Advisory Subpanel (CPSAS) and the Council's Scientific and Statistical Committee (SSC), and the biomass estimates and the status of the fisheries are reviewed and discussed. The CPSMT, CPSAS, and SSC then provide recommendations and comments to the Council regarding the OFL, ABC, ACL, HG, and ACT. Following Council review and after hearing public comment, the Council adopts biomass estimates and makes its harvest specification recommendations to NMFS. Pursuant to regulations at 50 CFR 660.508(e), NMFS publishes biennial harvest specifications in the Federal Register that establish the OFLs, ABCs, ACLs, HCs and ACTs for the upcoming two Pacific mackerel fishing seasons.

The control rules in the CPS FMP include the formula-based control rule for the HG, which is used, in conjunction with the OFL and ABC control rules, to manage Pacific mackerel. The HG is based, in large part, on the estimate of stock biomass for the fishing year. The biomass estimate is an explicit part of the various harvest control rules for Pacific mackerel, and as the estimated biomass decreases or increases from one year to the next, the resulting allowable catch levels similarly trend. The following is the formula-based harvest control rule for the HG:

HG = [(Biomass−Cutoff) × Fraction × Distribution]

The parameters in the formula are described as follows:

1. Biomass. The estimated stock biomass of Pacific mackerel is 61,737 mt for the 2025-2026 management season, and 67,954 mt the 2026-2027 management season.

2. Cutoff. This is the biomass level below which the directed commercial fishery is not allowed to fish. The FMP establishes this level at 18,200 mt.

3. Fraction. The harvest fraction is the percentage of the biomass above 18,200 mt that may be harvested. This is set in the FMP at 30 percent.

4. Distribution. Pacific mackerel range from Mexico to Alaska and regularly migrate between Mexico and the U.S. West Coast. Because some of the Pacific mackerel stock exists outside of U.S. waters, the Distribution parameter is used to estimate the proportion of the total biomass in U.S. waters and to calculate U.S. catch limits. The average portion of the total Pacific mackerel biomass estimated in the U.S. West Coast EEZ is set in the FMP at 70 percent. The 70 percent distribution estimate is based on the average historical larval distribution data obtained from scientific cruises and the distribution of the resource according to the logbooks of aerial fish-spotters.

The proposed Pacific mackerel harvest specifications for both the 2025-2026 and 2026-2027 fishing seasons, as recommended by the Council, are presented in Table 1.

Table 1—Pacific Mackerel Harvest Specifications for the 2025-2026 and 2026-2027 Fishing Seasons
Harvest specifications | 2025-2026 (mt) | 2026-2027 (mt)
OFL | 12,965 | 14,270
ACL = ABC | 10,084 | 11,099
HG | 9,143 | 10,448
ACT | 8,143 | 9,448

These catch specifications are based on the OFL and ABC control rules established in the CPS FMP, recommendations from the Council's SSC and other advisory bodies, and biomass estimates of 61,737 mt (2025-2026) and 67,954 mt (2026-2027). The biomass estimates are the result of a catch-only stock assessment the NMFS SWFSC completed in March 2025. At the April 2025 Council meeting, the Council's SSC reviewed and approved, and the Council adopted, the 2025 catch-only stock assessment and resulting biomass estimates as the best scientific information available for setting harvest specifications for the 2025-2026 and 2026-2027 Pacific mackerel fishing seasons. Additionally, the uncertainty surrounding these biomass estimates for Pacific mackerel for the 2025-2026 and 2026-2027 fishing seasons were explicitly taken into consideration in the development of these harvest specifications.

Under this proposed action, in the unlikely event that catch reaches the ACT in either fishing season, directed fishing would close, while the difference between the HG and ACT (1,000 mt) would be reserved as a set-aside for incidental landings in other fisheries and other sources of mortality.¹ For the remainder of the fishing season, incidental landings in CPS fisheries would be constrained to a 45 percent incidental catch allowance (in other words, no more than 45 percent by weight of the CPS landed per trip may be Pacific mackerel); and in non-CPS fisheries, up to 3 mt of Pacific mackerel incidental catch may be landed per fishing trip. The incidental catch set-aside is intended to allow continued operation of fisheries for other stocks, particularly other CPS stocks that may school with Pacific mackerel. The NMFS West Coast Regional Administrator will publish a notice in the Federal Register announcing the date of any closure of directed fishing if and when harvest levels reach or exceed the ACT. Additionally, to ensure the regulated community is informed of any closure, NMFS will also make announcements through other means available, including by email to fishermen, processors, and state fishery management agencies.

¹ Directed fishing for live bait and minor directed fishing is allowed to continue during a closure of the directed fishery.

Comments on this proposed rule and on NMFS' determination that this proposed rule, if adopted, would not have a significant economic impact on a substantial number of small entities (as discussed below in the Classification section), may be submitted via https://www.regulations.gov (see DATES and ADDRESSES).

Classification

Pursuant to section 304(b)(1)(A) of the Magnuson-Stevens Act, the NMFS Assistant Administrator has determined that this proposed rule is consistent with the CPS FMP, other provisions of the Magnuson-Stevens Act, and other applicable law, subject to further consideration after public comment.

This proposed rule has been determined to be not significant for purposes of Executive Order 12866. This proposed rule is not an Executive Order 14192 regulatory action because this action is not significant under Executive Order 12866.

The purpose of this rulemaking is to set harvest specifications (i.e., OFL, ABC, ACL, HG, and ACT) and management measures for the Pacific mackerel fishery, consistent with the Magnuson-Stevens Act and the CPS FMP. The OFL, ABC, and ACT are based on the harvest control rules in the CPS FMP. These specific harvest control rules are applied to year specific stock biomass estimates to derive these catch specifications, which are used to manage the commercial take of Pacific mackerel. A component of these control rules is that, as the estimated biomass decreases or increases from one year to the next, so do the applicable quotas. The harvest control rules in the CPS FMP remain unchanged by this proposed action.

The Chief Counsel for Regulation of the Department of Commerce certified to the Chief Counsel for Advocacy of the Small Business Administration that this proposed rule, if adopted, would not have a significant economic impact on a substantial number of small entities, for the reasons described below.

For Regulatory Flexibility Act (RFA) purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide. The small entities that would be affected by this proposed action are those vessels that harvest Pacific mackerel as part of the West Coast CPS purse seine fleet and are all considered small businesses under the above size standards.

The CPS FMP and its implementing regulations require NMFS to set an OFL, ABC, ACL, HG, and ACT for the Pacific mackerel fishery based on the harvest control rules in the FMP. These specific harvest control rules are applied to the current stock biomass estimate to derive these catch specifications, which are used to manage the commercial take of Pacific mackerel. A component of these control rules is that, as the estimated biomass decreases or increases from one year to the next, so do the applicable quotas.

Pacific mackerel harvest is one component of CPS fisheries off the U.S. West Coast. Pacific mackerel are principally caught off southern California within the limited entry portion (south of 39 degrees N lat.; Point Arena, California) of the fishery. Currently there are 59 vessels permitted in the Federal CPS limited entry fishery off California. The average annual per vessel revenue in the 2023-2024 fishing season for the 33 vessels that landed mackerel in the Federal CPS limited entry fishery off California was well below the threshold level of $11 million; therefore, all 59 of these vessels are considered small businesses under the RFA. Because each affected vessel is a small business, this proposed rule is considered to equally affect all of these small entities in the same manner. Additionally, the harvest specifications proposed in this rule would not constrain catch disproportionately for small entities in different size categories, as they remain well above the annual coastwide landings. Therefore, this rulemaking would not create disproportionate costs between small and large entities or between different size categories of small entities.

NMFS used the ex-vessel revenue information for a profitability analysis, as the cost data for the harvesting operations of CPS finfish vessels was limited or unavailable. For the 2023-2024 fishing year, the HG was 7,871 mt with an ACT of 6,871 mt and an incidental set-aside of 1,000 mt. Approximately 778 mt of Pacific mackerel were harvested in the 2023-2024 fishing year with an estimated ex-vessel value of approximately $406,702. For the 2025-2026 fishing season the proposed HG is 9,143 mt and the ACT is 8,143 mt. For the 2026-2027 fishing season the proposed HG is 10,448 mt and the ACT is 9,448 mt. Each fishing season will have an incidental set-aside of 1,000 mt. The proposed ACTs for these fishing seasons are slightly greater than those of the prior two fishing season (6,871 mt for 2023-2024, 7,943 mt for 2024-2025), and are well above recent catches, which have not exceeded 1,000 mt since the 2019-2020 fishing season. Therefore, the ACTs proposed in this rule are not expected to affect the profitability of the fleet compared to last season. Accordingly, under this rulemaking, vessel income from fishing is not expected to be altered from the vessel income from fishing under the previous season's specifications as a result of this rulemaking.

For the reasons described above, we find that the proposed action, if adopted, will not have a significant economic impact on a substantial number of small entities. As a result, an Initial Regulatory Flexibility Analysis is not required, and none has been prepared.

This action does not contain a collection-of-information requirement for purposes of the Paperwork Reduction Act. There are no relevant Federal rules that may duplicate, overlap, or conflict with the proposed action.

List of Subjects in 50 CFR Part 660

Fisheries, Fishing, Reporting and recordkeeping requirements.

Dated: August 20, 2025.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq., 16 U.S.C. 773 et seq., and 16 U.S.C. 7001 et seq.

2. In § 660.511, revise paragraphs (i)(1) and (2) to read as follows:

§ 660.511 Catch restrictions.

* * * * *

(i) * * *

(1) For the Pacific mackerel fishing season July 1, 2025, through June 30, 2026, the harvest guideline is 9,143 mt and the ACT is 8,143 mt; and

(2) For the Pacific mackerel fishing season July 1, 2026, through June 30, 2027, the harvest guideline is 10,448 mt and the ACT is 9,448 mt.

* * * * *

[FR Doc. 2025-16233 Filed 8-22-25; 8:45 am]

BILLING CODE 3510-22-P